DEPARTMENT OF HEALTH AND HUMAN SERVICES

National Institutes of Health

Center for Scientific Review; Amended Notice of Meeting

Notice is hereby given of a change in the meeting of the Center for Scientific Review Special Emphasis Panel, April 8, 2004, 1:30 p.m. to April 8, 2004, 2:30 p.m., National Institutes of Health, 6701 Rockledge Drive, Bethesda, MD, 20892 which was published in the Federal Register on March 17, 2004, 69 FR 12705-12707.

The meeting will be held April 30, 2004, from 2 p.m. to 3 p.m. The meeting location remains the same. The meeting is closed to the public.

Dated: April 16, 2004.
LaVerne Y. Stringfield,
Director, Office of Federal Advisory Committee Policy.

[FR Doc. 04-9463 Filed 4-23-04; 8:45 am]

BILLING CODE 4140-01-M